DEPARTMENT OF JUSTICE

Antitrust Division

Notice Pursuant to the National Cooperative Research and Production Act of 1993—IMS Global Learning Consortium, Inc.

Notice is hereby given that, on March 30, 2018, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Accelerate Learning, Houston, TX; ASU Prep Digital, Tempe, AZ; Colorado Virtual Academy, Lakewood, CO; Edina Public Schools, Edina, MN; Fayette County Public Schools, Lexington, KY; Georgia Department of Education, Atlanta, GA; Mastery Transcript Consortium, Gate Mills, OH; ScholarChip Card LLC, Hicksville, NY; School District of Palm Beach County, West Palm Beach, FL; Spring Branch Independent School District, Houston, TX; String Theory Public Schools, Philadelphia, PA; University of Wisconsin System Administration, Madison, WI; and Wisconsin eSchool Network, Webster, WI, have been added as parties to this venture.

Also, Carl and Ruth Shapiro Family National Center for Accessible Media at WGBH, Boston, MA; Cobb County School District, Smyrna, GA; Civitas Learning, Austin, TX; University of Mary Hardin-Baylor, Belton, TX; AMAC—Accessibility Solutions and Research Center, Atlanta, GA; and University of Texas at Austin, Austin, TX, have withdrawn as parties to this venture.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on January 12, 2018. A notice was published in the Federal Register pursuant to Section 6(b) of the Act on February 12, 2018 (83 FR 6050).

Patricia A. Brink,
Director of Civil Enforcement, Antitrust Division.

[FR Doc. 2018-08438 Filed 4-23-18; 8:45 am]

BILLING CODE 4410-11-P